DEPARTMENT OF THE INTERIOR

Bureau of Land Management

[NM-110-1610-DQ]

Notice of Availability of the Proposed Resource Management Plan (PRMP) for Kasha-Katuwe Tent Rocks National Monument and Final Environmental Impact Statement (FEIS), New Mexico

AGENCY: Bureau of Land Management (BLM), Interior.

ACTION: Notice of Availability.

SUMMARY: In accordance with the National Environmental Policy Act of 1969 (NEPA, 42 U.S.C. 4321 et seq.) and the Federal Land Policy and Management Act of 1976, the Bureau of Land Management (BLM) has prepared a Proposed Resource Management Plan/Final Environmental Impact Statement (PRMP/FEIS) for the Kasha-Katuwe Tent Rocks National Monument.

DATES: The BLM Planning Regulations (43 CFR 1610.5-2) state that any person who participated in the planning process, and has an interest which is or may be adversely affected, may protest BLM's approval or amendment of a RMP. You may file a protest within 30 days of the date that the Environmental Protection Agency publishes their Notice of Availability in the Federal Register. Instructions for filing of protests are described in the Dear Reader letter in the front of the Kasha-Katuwe Tent Rocks National Monument Proposed Plan/Final EIS and in the Supplementary Information section of this notice.

FOR FURTHER INFORMATION CONTACT: Mr. John Bristol, RMP Team Leader, BLM Rio Puerco Field Office, 435 Montano NE, Albuquerque, New Mexico 87107; e-mail John_Bristol@nm.blm.gov; telephone (505) 761-8755.

SUPPLEMENTARY INFORMATION: In 2001, Kasha-Katuwe Tent Rocks National Monument was designated a National Monument by Presidential Proclamation 7394. The Proclamation referred to the Monument as a remarkable outdoor laboratory, offering an opportunity to observe, study, and experience the geologic processes that shape natural landscapes, as well as other cultural and biological objects of interest. The Proclamation directed management of the Monument by the Secretary of the Interior through the Bureau of Land Management. It required the development of a Management Plan in close cooperation with the Pueblo de Cochiti and the promulgation of regulations for its management as the Secretary of the Interior deems appropriate. The Monument is located in Sandoval County, New Mexico near other areas of interest, the Cochiti Pueblo, Cochiti Dam and Lake, Bandelier National Monument and the U.S. Forest Service's Dome Wilderness. Within the Monument boundaries are 4,124 acres of Federally owned land, 521 acres of State owned land, and 757 acres of land in private ownership, for a total of 5,402 acres. These non-federal inholdings were reserved through the proclamation as part of the Monument upon acquisition of title thereto by the United States. Two parcels of land adjoining the Monument (edgeholdings) were determined to have resource values similar to those in the Monument. One of them has been acquired (since publication of the draft RMP) and is referred to as the “southwest acquisition” in this RMP. For the second parcel, should it be acquired, complementary management decisions have been proposed in the RMP. These parcels along with the lands within the monument boundary make up the Planning Area of approximately 15,635 acres.

The Proposed RMP/FEIS describes the physical, biological, cultural, historic, and socioeconomic resources in the planning area. The focus for impact analysis was based on resource issues and concerns identified during scoping and public involvement activities. These activities included a 30-day opportunity for written scoping comments and public meetings. During the 90-day public review and comment period on the Draft RMP/EIS, additional public meetings were held. Issues of concern regarding possible management direction and planning decisions (not necessarily in priority order) are: Land tenure adjustments, access and transportation, recreation (use and development), ecosystem restoration, and American Indian uses and traditional cultural practices. Three alternatives were analyzed in detail: Alternative A is the No Action Alternative representing the continuation of existing management plans, policies, and decisions established in the 1986 Rio Puerco RMP, as amended, and as implemented through the Tent Rocks Area of Critical Environmental Concern Protection Plan, with minimal compliance with proclamation requirements. Alternative B represents the BLM and Pueblo de Cochiti proposed resource use and conservation alternative. Alternative C emphasizes an adaptive management approach (particularly for recreation management) with the inclusion of additional monitoring. The monitoring results would trigger management changes to maximize recreational use and facility development while minimizing natural resource degradation and depletion. The BLM's preferred alternative is Alternative B with a focus on management concerns associated with the Monument while complying with the Proclamation and current BLM policies. The objectives balance ecological health and resource conservation with visitor use, research and environmental education opportunities, and recreational facilities development. Copies of the Kasha-Katuwe Tent Rocks National Monument PRMP/FEIS have been sent to affected Federal, State, and local government agencies and to interested parties. Copies of the PRMP/FEIS are available for public inspection at BLM's Rio Puerco Field Office 435 Montano NE, Albuquerque, NM and BLM's New Mexico State Office 1474 Rodeo Road, Santa Fe, NM and other BLM offices throughout the State. Interested persons may also review the PRMP/FEIS at www.nm.blm.gov. Comments on the Draft RMP/EIS received from the public and internal BLM review comments were incorporated into the proposed plan. Public comments resulted in clarifying the text of the PRMP/FEIS. The acquisition of lands immediately adjacent to the southwest Monument boundary after release of the Draft RMP/EIS required changes in ownership figures and miles of Federally owned roads and trails in the PRMP/FEIS, but did not significantly change proposed land use decisions.

Instructions for filing a protest with the Director of the BLM regarding the Proposed Plan/Final EIS may be found at 43 CFR 1610.5-2. A protest may only raise those issues which were submitted for the record during the planning process. E-mail and faxed protests will not be accepted as valid protests unless the protesting party also provides the original letter by either regular or overnight mail postmarked by the close of the protest period. Under these conditions, the BLM will consider the e-mail or faxed protest as an advance copy and it will receive full consideration. If you wish to provide BLM with such advance notification, please direct faxed protests to the attention of the BLM protest coordinator at 202-452-5112, and e-mails to Brenda_Hudgens-Williams@blm.gov.

Please direct the follow-up letter to the appropriate address provided below. The protest must contain:

a. The name, mailing address, telephone number, and interest of the person filing the protest.

b. A statement of the part or parts of the plan and the issue or issues being protested.

c. A copy of all documents addressing the issue(s) that the protesting party submitted during the planning process of a statement or the date they were discussed for the record.

d. A concise statement explaining why the protestor believes the State Director's decision is wrong.

All protests must be in writing and mailed to one of the following addresses:

Regular Mail: Director 210, Attention: Brenda Williams, P.O. Box 66538, Washington, DC 20035.

Overnight Mail: Director 210, Attention: Brenda Williams, 1620 L Street, NW., Suite 1075, Washington, DC 20036.

Individual respondents may request confidentiality. If you wish to withhold your name or street address from public review or from disclosure under the Freedom of Information Act, you must state this prominently at the beginning of your protest. Such requests will be honored to the extent allowed by law. All submissions from organizations and businesses, and from individuals identifying themselves as representatives or officials of organizations or businesses, will be available for public inspection in their entirety. The Director will promptly render a decision on the protest. The decision will be in writing and will be sent to the protesting party by certified mail, return receipt requested. The decision of the Director is the final decision of the Department of the Interior.

Dated: August, 9, 2006.
Linda S.C. Rundell,
New Mexico State Director.

[FR Doc. E6-19771 Filed 11-22-06; 8:45 am]

BILLING CODE 4310-22-P